DEPARTMENT OF THE TREASURY

Submission for OMB Review; Comment Request

November 29, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 5, 2001 to be assured of consideration.

INTERNAL REVENUE SERVICE (IRS)

OMB Number: 1545-0002.

Form Number: IRS FORM CT-2.

Type of Review: Extension.

Title: Employee Representative's quarterly Railroad Tax Return.

Description: Employee representatives file Form CT-2 quarterly to report compensation on which railroad retirement taxes are due. IRS uses this information to ensure that employee representatives have paid the correct tax. Form CT-2 also transmits the tax payment.

Respondents: Individuals or households.

Estimated Number of Respondents/Recordkeepers: 28.

Estimated Burden Hours Per Respondent/Recordkeeper:

Recordkeeping—13 min.

Learning about the law or the form—13 min.

Preparing the form—24 min.

Copying, assembling, and sending the form to the IRS—16 min.

Frequency of Response: Quarterly.

Estimated Total Reporting/Recordkeeping Burden: 127 hours.

OMB Number: 1545-0029.

Form Number: IRS Forms 941, 941-PR, and 941-SS; Schedule B (Form 941), Schedule B (Form 941-PR).

Type of Revenue: Extension.

Title: Employer's Quarterly Federal Tax Return; American Samoa, Guam, the Commonwealth of the Northern Mariana Islands, and the U.S. Virgin Islands (941, 941-PR and 941-SS); and Employer's Record of Federal Tax Liability (Schedule B (941 and 941-PR)).

Description: Form 941 is used by employers to report payments made to employees subject to income and social security/Medicare taxes and the amounts of these taxes. Form 941-PR is used by employers in Puerto Rico to report social security and Medicare taxes only. The 941-SS is used by employers in the U.S. possessions to report social security and Medicare taxes only. Schedule B is used by employers to record their employment tax liability.

Respondents: Business or other for-profit, Individuals or households, Not-for-profit institutions, Federal Government, State, Local or Tribal Government.

Estimated Number of Respondents/Recordkeepers: 5,798,054.

Estimated Burden Hours Per Respondent/Recordkeeper:

Form/Schedule | Recordkeeping | Learning about the law or the form | Preparing the form | Copying, assembling and sending the form to the IRS
941 | 9 hr., 19 min | 40 min | 1 hr., 46 min | 16 min.
941/V | 14 min | 00 min | 00 min | 00 min.
941/V (Over the Counter | 12 min | 00 min | 01 min | 00 min.
941/Line 17 | 57 min | 00 min | 01 min | 00 min.
941 (Schedule B) | 2 hr., 37 min | 06 min | 09 min | 00 min.
941-PR | 6 hr., 42 min | 18 min | 25 min | 00 min.
941-PR/Line 17 | 57 min | 00 min | 01 min | 00 min.
941-PR (Schedule B) | 37 min | 06 min | 09 min | 00 min.
941-SS | 6 hr., 56 min | 18 min | 25 min | 00 min.
941-SS/Line 17 | 57 min | 00 min | 01 min | 00 min.

Frequency of Response: Quarterly.

Estimated Total Reporting/Recordkeeping Burden: 315,935,261 hours.

OMB Number: 1545-0138.

Form Number: IRS Form 2063.

Type of Review: Extension.

Title: U.S. Departing Alien Income Tax Statement.

Description: Form 2063 is used by departing resident aliens against whom a termination assessment has not been made, or a departing nonresident alien who has no taxable income from United States sources, to certify that they have satisfied all U.S. income tax liability. the data is used by the IRS to certify that departing aliens have complied with U.S. income tax laws.

Respondents: Individuals or households.

Estimated Number of Respondents/Recordkeepers: 20,540.

Estimated Burden Hours Per Respondent/Recordkeeper:

| minutes
Recordkeeping | 7
Learning about the law or the form | 3
Preparing the form | 26
Copying, assembling, and sending the form to the IRS | 14

Frequency of Response: On occasion.

Estimated Total Reporting/Recordkeeping Burden: 17,048 hours.

OMB Number: 1545-0240.

Form Number: IRS form 6118.

Type of Review: Extension.

Title: Claim for Refund of Income Tax Return Preparer Penalties.

Description: Form 6118 is used by preparers to file for a refund of penalties incorrectly charged. The information enables the IRS to process the claim and have the refund issued to the tax return preparer.

Respondents: Individuals or households, Business or other for-profit.

Estimated Number of Respondents/Recordkeepers: 10,000.

Estimated Burden Hours Per Respondent/Recordkeeper:

Recordkeeping | 13 min.
Learning about the law or the form | 16 min.
Preparing the form | 10 min.
Copying, assembling, and sending the form to the IRS | 20 min.

Frequency of Response: On occasion.

Estimated Total Reporting/Recordkeeping Burden: 10,400 hours.

OMB Number: 1545-0390.

Form Number: IRS Form 5306.

Type of Review: Extension.

Title: Application for Approval of Prototype or Employer Sponsored Individual Retirement Account.

Description: This application is used by employers who want to establish an individual retirement account trust to be used by their employees. The application is also used by persons who want to establish approved prototype individual retirements accounts or annuities. The data collected is used to determine if plans may be approved.

Respondents: Business or other for-profit.

Estimated Number of Respondents/Recordkeepers: 600.

Estimated Burden Hours Per Respondent/Recordkeeper:

Recordkeeping | 11 hr., 43 min.
Learning about the law or the form | 35 min.
Preparing and sending the form to the IRS | 49 min.

Frequency of Response: On occasion.

Estimated Total Reporting/Recordkeeping Burden: 7,878 hours.

OMB Number: 1545-0790.

Form Number: IRS Form 8082.

Type of Review: Extension.

Title: Notice of Inconsistent Treatment or Administrative Adjustment Request (AAR).

Description: Internal Revenue Code (IRC) sections 6222 and 6227 require partners to notify IRS by filing Form 8082 when they (1) treat partnership items inconsistent with the partnership's treatment (6222) and (2) change previously reported partnership items (6227). Sections 6244 and 860F extend this requirement to shareholders of S corporations and residuals of REMICs. Also, sections 6241 and 6034-A(c) extend this requirement to partners in electing large partnerships and beneficiaries of estates and trusts.

Respondents: Business or other for-profit, Individuals or households, Farms.

Estimated Number of Respondents/Recordkeepers: 10,600.

Estimated Burden Hours Per Respondent/Recordkeeper:

Recordkeeping | 4 hr., 18 min.
Learning about the law or the form | 1 hr., 23 min.
Preparing and sending the form to the IRS | 1 hr., 31 min.

Frequency of Response: Annually.

Estimated Total Reporting/Recordkeeping Burden: 76,532 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-30968 Filed 12-05-00; 8:45 am]

BILLING CODE 4830-01-P